DEPARTMENT OF STATE

[Public Notice: 7751]

60-Day Notice of Proposed Information Collection: DS-261, Electronic Choice of Address and Agent, OMB Control Number 1405-0186

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Electronic Choice of Address and Agent.

• OMB Control Number: 1405-0186.

• Type of Request: Extension.

• Originating Office: Bureau of Consular Affairs, Visa Services (CA/VO/L/R).

• Form Number: DS-261.

• Respondents: Immigrant beneficiaries requesting change of address or designation of an authorized agent.

• Estimated Number of Respondents: 700,000.

• Estimated Number of Responses: 700,000.

• Average Hours per Response: 10 minutes.

• Total Estimated Burden: 116,666.

• Frequency: Once per respondent.

• Obligation to Respond: Required to Obtain or Retain a Benefit.

DATES: The Department will accept comments from the public up to 60 days from January 11, 2012.

ADDRESSES: You may submit comments by any of the following methods:

• Web: Persons with access to the Internet may view and comment on this notice by going to the regulations.gov Web site at http://www.regulations.gov/index/#!home and searching for the Public Notice number indicated at the beginning of this notice.

• Mail (paper, disk, or CD-ROM submissions): Chief, Legislation and Regulations Division, Visa Services—DS-160, 2401 E Street NW., Washington DC 20520-30106.

You must include the DS form number (if applicable), information collection title, and OMB control number in any correspondence.

FOR FURTHER INFORMATION CONTACT: Direct requests for additional information regarding the collection listed in this notice, including requests for copies of the proposed information collection and supporting documents, to Sydney Taylor, Visa Services, U.S. Department of State, 2401 E Street NW., L-603, Washington, DC 20522, who may be reached at taylors2@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of Proposed Collection

The DS-261 allows the beneficiary of an approved and current immigrant visa petition to provide the Department with his current address, which will be used for communications with the beneficiary. The DS-261 also allows the beneficiary to appoint an agent to receive mailings from the National Visa Center (NVC) and assist in the filing of various application forms and/or paying the required fees. The beneficiary is not required to appoint an agent but must provide current contact information. All cases will be held at NVC until the DS-261 is electronically submitted to the Department. If the form is not electronically submitted to the Department within one year, NVC will begin the case termination process.

Methodology

The DS-261 will be submitted electronically to the Department via the Internet. Applicants who submit the electronic form will no longer submit paper-based applications to the Department.

Dated: December 21, 2011.
David T. Donahue,
Deputy Assistant Secretary, Bureau of Consular Affairs, Department of State.

[FR Doc. 2012-361 Filed 1-10-12; 8:45 am]

BILLING CODE 4710-06-P